DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of May 16, 2013 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.:

Community | Community map repository address
Gunnison County, Colorado, and Incorporated Areas
Docket No.: FEMA-B-1242
City of Gunnison | City Hall, 201 West Virginia Avenue, Gunnison, CO 81230.
Town of Crested Butte | Town Hall, 507 Maroon Avenue, Crested Butte, CO 81224.
Town of Marble | Blackstock Government Center, 221 North Wisconsin Street, Gunnison, CO 81230.
Town of Pitkin | Town Hall, 801 State Street, Pitkin, CO 81241.
Unincorporated Areas of Gunnison County | Gunnison County Courthouse, 200 East Virginia Avenue, Gunnison, CO 81230.
DeKalb County, Georgia, and Incorporated Areas
Docket No: FEMA-B-1236
City of Atlanta | Site Development Office, 55 Trinity Avenue Southwest, Suite 5400, Atlanta, GA 30335.
City of Avondale Estates | City Hall, 32 North Avondale Plaza, Avondale Estates, GA 30002.
City of Chamblee | City Hall, 5468 Peachtree Road, Chamblee, GA 30341.
City of Clarkston | City Hall, 3921 Church Street, Clarkston, GA 30021.
City of Decatur | Engineering Department, 2635 Talley Street, Decatur, GA 30031.
City of Doraville | City Hall, 3725 Park Avenue, Doraville, GA 30340.
City of Dunwoody | City Hall, 41 Perimeter Center East, Suite 250, Dunwoody, GA 30346.
City of Lithonia | City Hall, 6980 Main Street, Lithonia, GA 30058.
City of Pine Lake | Administrative Building, 462 Pine Drive, Pine Lake, GA 30072.
City of Stone Mountain | City Hall, 922 Main Street, Stone Mountain, GA 30083.
Unincorporated Areas of DeKalb County | DeKalb County Public Works Department, 4305 Memorial Drive, Decatur, GA 30032.
Bracken County, Kentucky, and Incorporated Areas
Docket No.: FEMA-B-1247
City of Augusta | City Offices, 219 Main Street, Augusta, KY 41002.
City of Brooksville | City Clerk's Office, 101 Frankfort Street, Brooksville, KY 41004.
City of Germantown | City Clerk's Office, 219 Main Street, Augusta, KY 41002.
Unincorporated Areas of Bracken County | Bracken County Courthouse, 116 West Miami Street, Brooksville, KY 41004.
Kenton County, Kentucky, and Incorporated Areas
Docket No.: FEMA-B-1236
City of Bromley | City Building, 226 Boone Street, Bromley, KY 41016.
City of Covington | City Hall, 638 Madison Avenue, Covington, KY 41011.
City of Crescent Springs | City Administration Office, 739 Buttermilk Pike, Crescent Springs, KY 41017.
City of Crestview Hills | City Hall, 50 Town Center Boulevard, Crestview Hills, KY 41017.
City of Edgewood | City Building, 385 Dudley Road, Edgewood, KY 41017.
City of Elsmere | City Building, 318 Garvey Avenue, Elsmere, KY 41018.
City of Erlanger | 505 Commonwealth Avenue, Erlanger, KY 41018.
City of Fairview | Kenton County Clerk's Office, 303 Court Street, Covington, KY 41011.
City of Fort Mitchell | Administrative Building, 2355 Dixie Highway, Fort Mitchell, KY 41017.
City of Fort Wright | City Building, 409 Kyles Lane, Fort Wright, KY 41011.
City of Independence | Kenton County Courthouse, 5292 Madison Pike, Independence, KY 41051.
City of Kenton Vale | Kenton County Clerk's Office, 303 Court Street, Covington, KY 41011.
City of Lakeside Park | 9 Buttermilk Pike, Lakeside Park, KY 41017.
City of Ludlow | City Office, 51 Elm Street, Ludlow, KY 41016.
City of Park Hills | 1106 Amsterdam Road, Park Hills, KY 41011.
City of Ryland Heights | 10145 Decoursey Pike, Ryland Heights, KY 41015.
City of Taylor Mill | City Hall, 5225 Taylor Mill Road, Taylor Mill, KY 41015.
City of Villa Hills | City Building, 720 Rogers Rd, Villa Hills, KY 41017.
City of Walton | City Hall, 40 North Main Street, Walton, KY 41094.
Unincorporated Areas of Kenton County | Kenton County Clerk's Office, 303 Court Street, Covington, KY 41011.
Lauderdale County, Mississippi, and Incorporated Areas
Docket No.: FEMA-B-1246
City of Meridian | City Hall, 601 24th Avenue, Meridian, MS 39302.
Unincorporated Areas of Lauderdale County | Lauderdale County Courthouse, Tax Assessor's Office, 500 Constitution Avenue, Meridian, MS 39301.

(Catalog of Federal Domestic Assistance No. 97.022, “Flood Insurance.”)

James A. Walke,
Acting Deputy Associate Administrator for Mitigation, Department of Homeland Security, Federal Emergency Management Agency.

[FR Doc. 2013-02439 Filed 2-4-13; 8:45 am]

BILLING CODE 9110-12-P